FEDERAL MARITIME COMMISSION

Ocean Transportation Intermediary License; Revocations

The Federal Maritime Commission hereby gives notice that the following Ocean Transportation Intermediary Licenses or provisional licenses have been revoked in accordance with the Commission's Order in Docket No. 00-12, Revocation of Licenses, Provisional Licenses and Order to Discontinue Operations in U.S.—Foreign Trades for Failure to Comply with the New Licensing Requirements of the Ocean Shipping Reform Act of 1998 and section 19 of the Shipping Act of 1984 (46 U.S.C. app. 1718) and the regulations of the Commission pertaining to the licensing of Ocean Transportation Intermediaries:

A.I.F. Services, Inc. d/b/a Agency International Forwarding, Inc.

Agency International Forwarding, Inc.

Air & Sea Inc.

Airlift Container Lines, Inc.

Albatross Shipping Inc.

Almcorp Project Transport, Inc.

Alrod International, Inc. d/b/a Alrod Ocean Company

Andreani Corporation

Auto Export Services North America, Inc.

Auto Overseas Ltd.

Blackbird Line, Inc.

Calico Equipment Corp. d/b/a Global Equipment Transport

Cargo Maritime Services, Inc.

Century Express, Inc.

Chin, Johnnie C. F. d/b/a J C Express

Continental Shipping & Trading Import-Export, Inc.

Continental Van Lines, Inc. d/b/a Continental International

Denali International, Inc.

Dukes System Corp.

Excel Shipping Corp.

Exploit Express Freight Inc.

Federal Warehouse Company

Feith, Cornelis J. d/b/a Tiger Express

Formerica Consolidation Service, Inc.

Frontier International Forwarders, Inc.

Hemisphere International Shipping, Inc.

Hopkins, James E. d/b/a Hopkins Services

Inter-American Freight Consolidators, Inc.

International Distribution, Inc.

International Trade and Logistics, Inc.

International Transport Agency d/b/a I.T.A.

Iris Enterprises Corp. d/b/a Iris Cargo

Johnson Storage & Moving Co.

Landstar Ranger, Inc.

Loa Int'l (USA) Transport Co. Inc.

Maurice Pincoffs Company, Inc.

Nador Shipping Corporation

Naviera Mundial Inc.

Ocean Pacific Lines, Inc.

Og International (USA) Co., Inc.

P. H. Petry, Company, Inc.

Poseidon Freight Forwarders, Inc. d/b/a Poseidon Line

Roberto Bucci (USA) Inc.

Rolines Shipping Corp.

S. h. r. Enterprises, Inc.

S. t. s. International, Inc.

Sanchez, Carlos B. d/b/a R & S Trading

Seamax, Inc.

Transbridge International, Inc.

Transneftegazstroy America, Inc.

Treset Corporation

World Marine Services Dominicana, LLC

World Wide Cargo Logistics, Inc.

Yellow Freight System, Inc.

Bryant L. VanBrakle,
Secretary.

[FR Doc. 01-12369 Filed 5-15-01; 8:45 am]

BILLING CODE 6730-01-P